DEPARTMENT OF COMMERCE

National Oceanic and Atmospheric Administration

[I.D. 090402A]

Permits; Foreign Fishing

AGENCY: National Marine Fisheries Service (NMFS), National Oceanic and Atmospheric Administration (NOAA), Commerce.

ACTION: Notice of receipt of foreign fishing application.

SUMMARY: NMFS publishes for public review and comment a summary of a foreign fishing application submitted under provisions of the Magnuson-Stevens Fishery Conservation and Management Act (Magnuson-Stevens Act).

DATES: Comments must be received by September 27, 2002.

ADDRESSES: Send comments or requests for a copy of the application to NMFS, Office of Sustainable Fisheries, International Fisheries Division, 1315 East-West Highway, Silver Spring, MD 20910.

FOR FURTHER INFORMATION CONTACT: Robert A. Dickinson, Office of Sustainable Fisheries, (301) 713-2276.

SUPPLEMENTARY INFORMATION: Section 204(d) of the Magnuson-Stevens Act (16 U.S.C. 1824(d)) provides, among other things, that the Secretary of Commerce (Secretary) may issue a transshipment permit which authorizes a vessel other than a vessel of the United States to engage in fishing consisting solely of transporting fish or fish products at sea from a point within the U.S. Exclusive Economic Zone (EEZ) or, with the concurrence of a state, within the boundaries of that state to a point outside the United States. NMFS has received an application requesting authorization for a Mexican vessel to receive, within the Pacific waters of the U.S. EEZ south of 38° N. lat., transfers of live tuna from a U.S. purse seiner for the purpose of transporting the tuna alive to the Mexican EEZ.

Section 204(d)(3) of the Magnuson-Stevens Act provides, among other things, that an application may not be approved until the Secretary determines that “no owner or operator of a vessel of the United States which has adequate capacity to perform the transportation for which the application is submitted has indicated ... an interest in performing the transportation at fair and reasonable rates.” NMFS is publishing this notice as part of its effort to make this determination.

Interested U.S. vessel owners and operators may obtain a copy of the complete application from NMFS (see ADDRESSES).

Dated: September 5, 2002
Virginia M. Fay,
Acting Director, Office of Sustainable Fisheries, National Marine Fisheries Service

[FR Doc. 02-23398 Filed 9-12-02; 8:45 am]

BILLING CODE 3510-22-S